FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date resissued
018155N | Coastar Freight Services, Inc., 10370 Slusher Drive, #2, Santa Fe Springs, CA 90670 | September 25, 2005.
015507N | Ampac Freight Services, Inc., 3234 Arden Road, Hayward, CA 94545 | October 26, 2005.
017926F | GQ Logistics, Inc., 11222 La Cienega Blvd., Suite 510, Inglewood, CA 90304 | October 9, 2005.
017848F | K2 International, LLC dba All-Ways Cargo Services, 2782 Eagandale Blvd., Eagan, MN 55121 | October 9, 2005.
019033N | Hua Feng (USA) Logistics Inc., 11222 S. La Cienega Blvd., Suite 608, Inglewood, CA 90304 | October 15, 2005.
003444F | Kosmo International, Inc., 2125 Center Avenue, Suite 207A, Fort Lee, NJ 07024 | October 15, 2005.
017081N | Speedex International, Inc., 2665 E. Del Amo Blvd., Rancho Dominguez, CA 90221 | November 30, 2005.
000571F | Forwarding Services, Inc., 811 Washington Road, Suite 2, Parlin, NJ 08859 | November 7, 2005.

Peter J. King,
Deputy Director, Bureau of Certification and Licensing.

[FR Doc. E5-8321 Filed 1-4-06; 8:45 am]

BILLING CODE 6730-01-P